DEPARTMENT OF AGRICULTURE

Farm Service Agency

[Docket ID FSA-2022-0015]

Information Collection Request; Organic Certification Cost Share Program

AGENCY: Farm Service Agency, USDA.

ACTION: Notice; request for comment.

SUMMARY: In accordance with the Paperwork Reduction Act of 1995, the Farm Service Agency (FSA) is requesting comments from all interested individuals and organizations on an extension of a current information collection request associated with the Organic Certification Cost Share Program (OCCSP). OCCSP provides cost share assistance to producers and handlers of agricultural products who are obtaining or renewing their certification under the National Organic Program (NOP). Certified operations may receive up to 50 percent of their certification costs paid, up to a maximum of $500 for each of the following scopes: crops, wild crops, livestock, processing/handling, and State organic program fees. Certain State agencies also submit applications to FSA to administer OCCSP in their States.

DATES: We will consider comments that we receive by January 17, 2023.

ADDRESSES: We invite you to submit comments on the notice. You may submit comments by any of the following methods:

• Federal eRulemaking Portal: Go to http://regulations.gov and search for docket ID FSA-2022-0015. Follow the online instructions for submitting comments.

• Mail: Farm Service Agency, USDA, Chris Vazquez, 1400 Independence Avenue, Mail Stop 0517, SW, Washington, DC 20250-0517.

Comments will be available for inspection online at http://www.regulations.gov. Copies of the information collection may be requested by contacting Chris Vazquez (see For Further Information Contact below). You may also send comments to the Desk Officer for Agriculture, Office of Information and Regulatory Affairs, Office of Management and Budget, Washington, DC 20503.

FOR FURTHER INFORMATION CONTACT: Chris Vazquez, (202) 690-0013; email: christopher.vazquez@usda.gov. Persons with disabilities who require alternative means for communication should contact the USDA Target Center at (202) 720-2600 (voice).

SUPPLEMENTARY INFORMATION:

Description of Information Collection Request

Title: Organic Certification Cost Share Program.

OMB Number: 0560-0289.

Expiration Date of Approval: 04/30/2023.

Type of Request: Extension.

Abstract: FSA is requesting comments from all interested individuals and organizations on an extension of a currently approved information collection request associated with OCCSP. Producers and handlers will apply for cost share payments, and State Agencies will establish agreements to get funds and to disburse payments to qualified producers or handlers.

There are no changes to the burden hours since the last OMB approval. For the following estimated total annual burden on respondents, the formula used to calculate the total burden hour is the estimated average time per responses hours multiplied by the estimated total annual responses.

Estimate of Annual Burden: Public reporting burden for this collection of information is estimated to average 1.0015 hours per response.

Type of Respondents: Individuals, and State.

Estimated Number of Respondents: 15,565.

Estimated Annual Number of Responses per Respondent: 5.0455.

Estimated Total Annual of Responses: 78,533.

Estimated Average Time per Responses: 1.0015 hours.

Estimated Total Annual Burden on Respondents: 78,650 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including names and addresses when provided, will be summarized and included in the request for OMB approval. All comments will also become a matter of public record.

William Marlow,
Acting Administrator, Farm Service Agency.

[FR Doc. 2022-25086 Filed 11-17-22; 8:45 am]

BILLING CODE P